DEPARTMENT OF TRANSPORTATION

Federal Aviation Administration

Public Notice for Waiver of Aeronautical Land-Use Assurance

AGENCY: Federal Aviation Administration, DOT.

ACTION: Notice of intent of waiver with respect to land; Rantoul National Aviation Center-Frank Elliott Field, Rantoul, Illinois.

SUMMARY: The Federal Aviation Administration (FAA) is considering a proposal to change a portion of airport land from aeronautical use to non-aeronautical use at the Rantoul National Aviation Center-Frank Elliott Field, Illinois. The proposal consists of a total of 6.892 acres. This notice announces that the FAA is considering the release of the subject airport property at Rantoul National Aviation Center-Frank Elliott Field, from all federal land covenants. Approval does not constitute a commitment by the FAA to financially assist in disposal of the subject airport property nor a determination that all measures covered by the program are eligible for grant-in-aid funding from the FAA.

In accordance with section 47107(h) of Title 49, United States Code, this notice is required to be published in the Federal Register 30 days before modifying the land-use assurance that requires the property to be used for an aeronautical purpose.

DATES: Comments must be received on or before August 5, 2016.

ADDRESSES: Documents are available for review by prior appointment at the FAA Airports District Office, Gary D. Wilson, Program Manager, Federal Aviation Administration, Chicago Airports District Office, 2300 East Devon Avenue, Des Plaines, IL, 60018. Telephone Number 847-294-7631/FAX: Number 847-294-7046 and Rantoul National Aviation Center-Frank Elliott Field, 333 South Tanner Street, Rantoul, Illinois 61866, and (217) 892-6895/Fax: (217) 892-5501.

Written comments on the Sponsor's request must be delivered or mailed to Mr. Gary D. Wilson, Program Manager, Federal Aviation Administration, Chicago Airports District Office, 2300 East Devon Avenue, Des Plaines, Illinois 60018. Telephone: (847) 294-7631/Fax: (847) 294-7046.

FOR FURTHER INFORMATION CONTACT: Mr. Gary D. Wilson, Program Manager, Federal Aviation Administration, Chicago Airports District Office, 2300 E. Devon Avenue, Des Plaines, Illinois 60018. Telephone: (847) 294-7631/Fax: (847) 294-7046.

SUPPLEMENTARY INFORMATION: In accordance with section 47107(h) of Title 49, United States Code, this notice is required to be published in the Federal Register 30 days before modifying the land-use assurance that requires the property to be used for an aeronautical purpose.

The Village of Rantoul is sponsor of the Rantoul National Aviation Center-Frank Elliott Field and is requesting release of 4.5 acres from Parcel A2b-3 and 2.392 acres from Parcel O2 (6.892 total).

The following are legal descriptions of the properties being released from Champaign County, Illinois:

Parcel A2B-3

A tract of land being part of Section 2, Township 21 North, Range 9 East of the Third Principal Meridian, Champaign County, Illinois, described as follows, with bearing on Illinois State Plane Coordinate System—East Zone:

Commencing at the Northwest Corner of the Southwest Quarter of said Section 2 proceed North 89 degrees 38 minutes 35 seconds East along the North line of said Southwest Quarter, 507.81 feet; thence South 00 degrees 33 minutes 08 seconds East, 563.08 feet to a point on the East line of Eagle Drive, being the True Point of Beginning; thence South 45 degree 33 minutes 46 seconds East, 84.61 feet; thence North 44 degrees 16 minutes 19 seconds East, 64.00 feet; thence North 89 degrees 16 minutes 19 seconds East, 84.86 feet; thence South 45 degrees 33 minutes 46 seconds East, 960.05 feet; thence South 44 degrees 16 minutes 19 seconds West, 396.02 feet to the Northerly line of Pacesetter Drive; thence North 45 degrees 33 minutes 46 seconds West along said Northerly line of Pacesetter Drive, 832.74 feet to said East line of Eagle Drive; thence North 00 degrees 33 minutes 08 seconds West along said East line of Eagle Drive, 384.62 feet to said True Point of Beginning, encompassing 4.5 acres more or less.

Parcel O2

A tract of land being part of Section 2, Township 21 North, Range 9 East of the Third Principal Meridian, Champaign County, Illinois, described as follows, with bearing on Illinois State Plane Coordinate System—East Zone:

Commencing at the Northeast Corner of “Amerinvest Rantoul”, recorded as Document 99R07994 in the Champaign County Recorder's Office, proceed North 89 degrees 26 minutes 40 seconds East, 50.00 feet, thence North 85 degrees 10 minutes 51 seconds East, 66.52 feet to a corner on the South line of International Avenue, being the True Point of Beginning, thence North 89 degrees 25 minutes 35 seconds East along said South line International Avenue, 361.78 feet to the West line Eagle Drive, thence South 00 degrees 33 minutes 08 seconds East along said West line of Eagle Drive, 275.94 feet to the Northeast corner of Parcel “01” as described in a Quit Claim Deed recorded as Document Number 2000R02944 in said Recorder's office, thence South 89 degrees 26 minutes 52 seconds west along the North line of said Parcel “01” as described in a Quit Claim Deed, 378.19 feet to the Northwest corner of said Parcel “01” as described in a Quit Claim Deed and also being the East line of Century Boulevard; thence North 00 degrees 32 minutes 12 seconds west along said East line of Century Boulevard, 259.39 feet; thence North 44 degrees 18 minutes 56 seconds East along an Easterly line of Century Boulevard, 23.16 feet to the True Point of Beginning, encompassing 2.392 acres more or less.

Issued in Des Plaines, Illinois on, June 22, 2016.
Deb Bartell,
Acting Manager, Chicago Airports District Office, FAA, Great Lakes Region.

[FR Doc. 2016-15981 Filed 7-5-16; 8:45 am]

BILLING CODE 4910-13-P